DEPARTMENT OF AGRICULTURE

Motor Vehicles; Alternative Fuel Vehicle (AFV) Report

AGENCY: Departmental Administration, USDA.

ACTION: Notice of Availability—Fleet (AFV) Report.

SUMMARY: In accordance with the Energy Policy Act of 1992 (EPAct) (42 U.S.C. 13211-13219) as amended by the Energy Conservation Reauthorization Act of 1998 (Pub. L. 105-388), and Executive Order (EO) 13149, “Greening the Government Through Federal Fleet and Transportation Efficiency,” the Department of Agriculture's annual alternative fuel reports are available on the following Department of Agriculture Web site; http://www.usda.gov/energyandenvironment/alternative.html

FOR FURTHER INFORMATION CONTACT: James Michael, Jr., (202) 720-8616.

Dated: January 8, 2003.
Lou Gallegos,
Assistant Secretary, Departmental Administration.

[FR Doc. 03-1342 Filed 1-21-03; 8:45 am]

BILLING CODE 3410-98-M